DEPARTMENT OF THE TREASURY

Financial Literacy and Education Commission's Inaugural Meeting of the “National Financial Education Network”

AGENCY: Departmental Offices, Treasury.

ACTION: Notice of open meeting.

SUMMARY: This notice announces the inaugural meeting of the “National Financial Education Network” of the Financial Literacy and Education Commission. The Commission was established by the Financial Literacy and Education Improvement Act (Title V of the Fair and Accurate Credit Transactions Act of 2003).

DATES: The Financial Literacy and Education Commission's inaugural meeting of the “National Financial Education Network” will be held on Tuesday, April 17, 2007, from 9:30 a.m. to 4 p.m.

ADDRESSES: The inaugural meeting of the “National Financial Education Network” will be held in the Cash Room at the Department of the Treasury, located at 1500 Pennsylvania Ave., NW., Washington, DC. To be admitted to the Treasury building, an attendee must RSVP by providing his or her name, organization, phone number, date of birth, Social Security number and country of citizenship to the Department of the Treasury by e-mail at: FLECrsvp@do.treas.gov, or by telephone at: (202) 622-1783 (not a toll-free number) not later than 5 p.m. on Wednesday, April 11, 2007.

FOR FURTHER INFORMATION CONTACT: For additional information, contact Garret Overlock by e-mail at: garret.overlock@do.treas.gov or by telephone at (202) 622-1006 (not a toll free number). Additional information regarding the Financial Literacy and Education Commission and the Department of the Treasury's Office of Financial Education may be obtained through the Office of Financial Education's Web site at: http://www.treasury.gov/financialeducation.

SUPPLEMENTARY INFORMATION: The Financial Literacy and Education Improvement Act, which is Title V of the Fair and Accurate Credit Transactions Act of 2003 (the “FACT Act”) (Pub. L. 108-159), established the Financial Literacy and Education Commission (the “Commission”) to improve financial literacy and education of persons in the United States. The Commission is composed of the Secretary of the Treasury and the head of the Office of the Comptroller of the Currency; the Office of Thrift Supervision; the Federal Reserve; the Federal Deposit Insurance Corporation; the National Credit Union Administration; the Securities and Exchange Commission; the Departments of Education, Agriculture, Defense, Health and Human Services, Housing and Urban Development, Labor, and Veterans Affairs; the Federal Trade Commission; the General Services Administration; the Small Business Administration; the Social Security Administration; the Commodity Futures Trading Commission; and the Office of Personnel Management.

As part of the implementation of Taking Ownership of the Future: The National Strategy for Financial Literacy, the U.S. Office of Personnel Management and the Department of the Treasury partnered to establish a network of state and local government officials to improve collaboration on financial education efforts among federal, state and local levels. The inaugural meeting of the “National Financial Education Network” of state and local governments will bring together representatives from different areas and levels of government across the nation. The purpose of the meeting will be to create an open dialogue among associations, government officials, and individuals in hopes of advancing financial education at the state and local level.

Dated: March 21, 2007.
Dan Iannicola, Jr.,
Deputy Assistant Secretary for Financial Education.

[FR Doc. E7-5953 Filed 3-29-07; 8:45 am]

BILLING CODE 4811-42-P